NUCLEAR REGULATORY COMMISSION

Advisory Committee on Reactor Safeguards Subcommittee Meeting on Future Plant Designs; Canceled

The meeting of the ACRS Subcommittee on Future Plant Designs scheduled to be held on November 21, 2002, Room T-2B1, 11545 Rockville Pike, Rockville, Maryland, has been canceled due to the unavailability of documents. Notice of this meeting was published in the Federal Register on Monday, November 4, 2002 (67 FR 67218).

FOR FURTHER INFORMATION CONTACT: Dr. Medhat M. El-Zeftawy (telephone 301-415-6889) between 7:30 a.m. and 5 p.m. (EST) or by e-mail MME@NRC.gov

Dated: November 13, 2002.
Howard J. Larson,
Acting Associate Director for Technical Support, ACRS/ACNW.

[FR Doc. 02-29326 Filed 11-18-02; 8:45 am]

BILLING CODE 7590-01-P